EXPORT-IMPORT BANK

[Public Notice 88]

Agency Information Collection Activities: Submission for OMB Review; Comment Request

AGENCY: Export Import Bank of the U.S.

ACTION: Notice and request for comments.

SUMMARY: The Export-Import Bank, as a part of its continuing effort to reduce paperwork and respondent burden, invites the general public and other Federal Agencies to comment on the proposed information collection, as required by the Paperwork Reduction Act of 1995. Our customers will be able to submit this form on paper or electronically. The form has been updated in the following ways:

• The application now accommodates requests for Finance Lease Guarantee coverage. Information on Lessees and Lessors is requested in those circumstances.

• The application accommodates requests for Foreign Dealer Insurance policies. A separate one-page attachment (Attachment IV) is required when the applicant requests this coverage.

• The format has been changed so that it accords with the on-line version of the form which will be made available later in 2006. Formatting changes include:

—The names of the applicant and broker have been moved up to the first item.

—Section 1 has been relabeled “General Questions” instead of “Financing Type Requested”.

—Requests for Special Coverages have been moved up in front of the Participants section.

• Information about a new participant, the agent, is now requested. Gathering this information helps Ex-Im Bank evaluate the creditworthiness of the transaction.

• Legal certifications have been updated.

Additional changes since we published the form in the Federal Register on April 7, 2006:

• Section 8 D. “Commitment Fee/Facility Fee Agreement (Guarantees and Credit Guarantee Facilities only)” has been added. This section was omitted in error from the previous submission but is currently asked on the existing version of the medium-term application form currently approved by OMB and posted on Ex-Im Bank's Web site. It does not represent a new question for customers.

• Attachment VI, Form of Fee letter has been added. This attachment provides a template fee letter that needs to be filled out and signed by the borrower in the following circumstances:

—The application is for a guarantee or a credit guarantee facility;

—The applicant is the guaranteed lender or the exporter, and

—The applicant is signing the application but the borrower is committing to pay the commitment or facility fee.

This is not a new letter but a more clear presentation of an existing requirement.

DATES: Written comments should be received on or before July 17, 2006 to be assured of consideration.

ADDRESSES: Please direct all comments to David Rostker, Office of Management and Budget, Office of Information And Regulatory Affairs, NEOB, Room 10202, Washington, DC 20503, (202) 395-5897. Direct requests for additional information to Angela Beckham, Export-Import Bank of the U.S., 811 Vermont Avenue, NW., Washington, DC 20571, (800) 565-3946, extension 3418. For copies of the proposed form, please direct your request to Solomon Bush, Export-Import Bank of the U.S., 811 Vermont Avenue, NW., Washington, DC 20571, (800) 565-3946, extension 3353. A copy of the form is posted on our Web site at: http://www.exim.gov/pub/pdf/eib03-02_prop.pdf.

SUPPLEMENTARY INFORMATION:

Title and Form Number: Application for Medium-term Insurance or Guarantee, EIB-03-02.

OMB Number: 3048-0014.

Type of Review: Regular.

Need and Use: The information requested enables the applicant to provide Ex-Im Bank with the information necessary to obtain legislatively required assurance of repayment and fulfills other statutory requirements.

Affected Public: The form affects entities involved in the export of U.S. goods and services.

Estimated Annual Respondents: 800.

Estimated Time per Respondent: 1.5 hours.

Estimated Annual Burden: 1200 hours.

Frequency of Reporting or Use: As needed, each time an applicant seeks medium-term insurance or guarantee.

Dated: June 8, 2006.
Solomon Bush,
Agency Clearance Officer.

[FR Doc. 06-5376 Filed 6-14-06; 8:45 am]

BILLING CODE 6690-01-M